DEPARTMENT OF COMMERCE

National Institute of Standards and Technology

Submission for OMB Review; Comment Request

The Department of Commerce (DOC) has submitted to the Office of Management and Budget (OMB) for clearance the following proposal for collection of information under the provisions of the Paperwork Reduction Act (44 U.S.C. Chapter 35).

Agency: National Institute of Standards and Technology (NIST).

Title: Advanced Technology Program (ATP).

Agency Form Number: NIST-1262 and NIST-1263.

OMB Approval Number: 0693-0009.

Type of Request: Revision to an existing collection of information.

Burden Hours: 14,875.

Number of Respondents: 1,000.

Average Hours Per Response: 30 hours for full proposals; 1 ½ hours for pre-proposals; and, 5 hours for monitoring reports.

Needs and Uses: ATP is a competitive cost-sharing program designed to assist United States' businesses pursue high-risk, enabling technologies with significant commercial/economic potential. The ATP provides multi-year funding through the use of cooperative agreements to single companies and to industry-led joint ventures. In order to participate, proposals must be submitted addressing the ATP criteria. The information is used to perform the technical and business reviews of the proposals to determine if an award should be granted.

Affected Public: Businesses or other for-profit organizations, not-for-profit institutions, individuals.

Frequency: On occasion, yearly, quarterly, biennially, semi-annually.

Respondent's Obligation: Required to obtain or retain a benefit.

OMB Desk Officer: Kamela White (202) 395-3630.

Copies of the above information collection proposal can be obtained by calling or writing Madeleine Clayton, DOC Forms Clearance Officer, (202) 482-3129, Department of Commerce, Room 6086, 14th and Constitution Avenue, NW, Washington, DC 20230 (or via the Internet at MClayton@doc.gov).

Written comments and recommendations for the proposed information collection should be sent within 30 days of publication of this notice to Kamela White, Room 10236, New Executive Office Building, 725 17th Street, NW, Washington, DC 20503.

Dated: September 15, 2000.
Madeleine Clayton,
Departmental Forms Clearance Officer, Office of the Chief Information Officer.

[FR Doc. 00-24169 Filed 9-19-00; 8:45 am]

BILLING CODE 3510-13-P